CONSUMER PRODUCT SAFETY COMMISSION

Consumer Agenda, Priorities and Strategic Plan; Public Hearing

Federal Register Citation of Previous Announcement: Vol. 71, No. 109, Wednesday, June 7, 2006, pages 32929-32930.

Previously Announced Time and Date of Meeting: 10 a.m., Tuesday, July 11, 2006.

Changes in Meeting: The public hearing on Commission Agenda, Priorities and Strategic Plan for fiscal year 2008 is canceled.

For a recorded message containing the latest agenda information, call (301) 504-7948.

FOR FURTHER INFORMATION CONTACT: Todd A. Stevenson, Consumer Product Safety Commission, Office of the Secretary, 4330 East West Highway, Bethesda, MD 20207 (301) 504-7923.

Dated: June 28, 2006.
Todd A. Stevenson,
Secretary.

[FR Doc. 06-5982 Filed 7-3-06; 8:45 am]

BILLING CODE 6355-01-M